DEPARTMENT OF ENERGY

Federal Energy Regulatory Commission

[Docket No. RP02-13-010]

Portland Natural Gas Transmission System; Notice of Compliance Filing

April 30, 2003.

Take notice that on April 24, 2003, Portland Natural Gas Transmission System (PNGTS) tendered for filing, as part of its FERC Gas Tariff, Original Volume No. 1, Fifth Revised Sheet No. 100, effective November 12, 2002.

PNGTS states that the purpose of its filing is to comply with the Commission's order issued on April 14, 2003, in Docket No. RP02-13-005, which approved PNGTS's November 12, 2002 compliance filing, with one modification. PNGTS indicates that this one modification required PNGTS to revise the statement of the maximum recourse rate for PNGTS's seasonal FT service. Accordingly, PNGTS states that it is submitting a modified Tariff Sheet No. 100 as required.

PNGTS states that copies of this filing are being served on all jurisdictional customers, applicable state commissions, and participants in Docket No. RP02-13-000.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 6, 2003.

Magalie R. Salas,
Secretary.

[FR Doc. 03-11124 Filed 5-5-03; 8:45 am]

BILLING CODE 6717-01-P